DEPARTMENT OF COMMERCE

Economic Development Adminstration

[Docket No. 991215339-2014-03]

RIN-0610-ZA14

Economic Development Assistance Programs—Availability of Funds Under the Public Works and Economic Development Act of 1965, as Amended and the Trade Act of 1974, as Amended

AGENCY: Economic Development Administration (EDA), Department of Commerce (DOC).

ACTION: Notice of Funding Availability (NOFA).

SUMMARY: The role of government is to create conditions in which jobs are created, and in which people can find work. The Economic Development Administration (EDA) announces general policies and application procedures for investments that will help our partners across the nation (states, regions and communities) create wealth and minimize poverty by promoting a favorable business environment to attract private capital investment and high skill, high wage jobs through world-class capacity building, infrastructure, business assistance, research grants and strategic initiatives. EDA will fulfill this mission by promoting progressive domestic business policies and growth, and by assisting states, communities, and individuals to achieve their highest economic potential.

DATES: Unless otherwise noted below, proposals are accepted on a continuing basis and applications are invited and processed as received. Normally, two months are required for a final decision after the receipt of a completed application invited by EDA that meets all requirements.

ADDRESSES: Addresses for EDA's six regional offices and Washington, DC, office are provided in Part XVI. Addresses for Economic Development Representatives (EDRs) are listed under each regional office.

FOR FURTHER INFORMATION CONTACT: For national technical assistance, research, and trade adjustment assistance investments, please contact the appropriate program office as shown in Parts X, XII, and XIII, respectively. For community and regional economic development investments, contact EDA's regional office or the EDR for your area as shown in Part XVI.

SUPPLEMENTARY INFORMATION:

I. Funding Availability

Funding appropriated under Public Law 107-77 is available for economic development assistance programs authorized by the Public Works and Economic Development Act of 1965, as amended (Public Law 89-136, 42 U.S.C. 3121, et seq and as further amended by Public Law 105-393) and for trade adjustment assistance authorized under Title II, Chapters 3 and 5 of the Trade Act of 1974, as amended, (19 U.S.C. 2341-2355; 2391) (Trade Act), as amended by Public Law 105-119. Funds in the amount of $335,000,000 have been appropriated for FY 2002 and shall remain available until expended.

EDA receives and processes requests for funding on an ongoing basis, and has begun processing requests under the FY 2002 appropriation. New requests submitted that require approval during this fiscal year will face substantial competition. EDA will focus on outcomes such as value-added employment and private sector investment.

II. Authority

The authority for programs listed below in Parts VIII through XII is the Public Works and Economic Development Act of 1965, as amended (Public Law 89-136, 42 U.S.C. 3121, et seq.) and as further amended by Public Law 105-393. The authority for the program listed in Part XIII is Title II Chapters 3 and 5 of the Trade Act of 1974, as amended by Public Law 93-618, 98-120, 98-369, 99-272, 99-514, 100-418, 103-66, 105-277; (19 U.S.C. 2341-2391) (Trade Act).

III. Eligibility

Eligible recipients of EDA financial assistance are defined at 13 CFR 300.2 and eligible applicants are specified at 13 CFR 301.1. An “area” is an eligible recipient and is defined at 13 CFR 301.2. One category of the areas eligible for financial assistance are those areas meeting the “special needs” criteria. The special needs criteria are published each year by this notice and are provided at Part XV.

IV. Proposal Format

Preapplication proposals must be submitted on EDA's Preapplication for Federal Assistance, Form ED-900P. This form contains both questions and a narrative statement. The narrative statement need not exceed four pages. The narrative statement must address the following topics in the order listed:

1. Project Area

2. Project Description

3. Proponent's Capability

4. Problem

5. Project Impact

6. Project Beneficiaries

7. Civil Rights Issues

8. Funding

9. Identify Sources of Non-EDA Funding

10. Title/Ownership/Operation and Maintenance (Construction Projects)

11. Environmental Issues

Proposals for Public Works and Economic Development Facilities assistance and Economic Adjustment assistance must also include Form ED-900P, Exhibit A, Area Eligibility for Grants under 13 CFR parts 305 (Public Works) and 308 (Economic Adjustment) and the necessary documentation and narrative statement.

Proposals for projects on which EDA is requested to fund more than 50 percent of project costs may be required to include Form ED-900P, Exhibit B, EDA Grant Rate Determination, and the necessary documentation and narrative statement.

An original and two copies must be submitted to the appropriate Economic Development Representative or regional office.

Unless otherwise provided herein, eligibility, program objectives, application procedures, selection process, evaluation criteria and other requirements for all programs are set forth in EDA regulations at 13 CFR chapter III and applicants must address those requirements. The Department of Commerce Pre-Award Notification Requirements for Grants and Cooperative Agreements contained in the Federal Register notice of October 1, 2001 (66 FR 49917) is incorporated by reference into this notice and is available on EDA's Web site (www.eda.doc.gov). However, please note that the Department of Commerce will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case has been finally resolved, the Department will provide further information on implementation of Executive Order 13202.

For Public Works (13 CFR Part 305) and Economic Adjustment Investments (13 CFR part 308) (CFDA No. 11.300 and 11.307 respectively), EDA reviews area eligibility at the time an application is invited and again at the time an application is received. This review is based on the most recent Federal data available for the area where the project will be located or where the substantial direct benefits will be received. If no Federal data are available to determine eligibility, an applicant must submit to EDA the most recent data available for the area through the government of the state in which the area is located, i.e., conducted by or at the direction of the state government. Other data may be submitted, as appropriate, to substantiate eligibility based on “special need” (see Part XV of this notice). Project areas must be eligible on the date of receipt of the application. In the case of any application received by EDA more than six months prior to the time of award, EDA will reevaluate the project to determine that the area remains eligible for EDA assistance before making the award. EDA will reject any documentation of eligibility that it determines is inaccurate and the application may be rejected.

V. General Policies

EDA encourages only those investment proposals that will significantly benefit areas experiencing or threatened with substantial economic distress. Distress may exist in a variety of forms, including, but not limited to: High levels of unemployment, low income levels, large concentrations of low-income families, significant declines in per capita income, substantial loss of population because of the lack of employment opportunities, large numbers (or high rates) of business failures, sudden major layoffs or plant closures, military base closures, natural or other major disasters, depletion of natural resources, and/or reduced tax bases.

Communities affected by the 1988, 1991, 1993 or 1995 Base Realignment and Closure (BRAC) actions, and which qualify for either regular Public Works or regular Economic Adjustment funding, may apply for investments under one or both of those programs. EDA anticipates that construction proposals would seek funding from the regular Public Works program and credit enhancement or other innovative financing proposals would compete under the regular Economic Adjustment authority.

Potential applicants are responsible for demonstrating to EDA, by providing statistics and other appropriate information, the nature and level of the distress their project efforts are intended to alleviate. EDA provides funding for eligible investment activities through direct grants and cooperative agreements. EDA is not authorized to provide grants directly to individuals or to other for-profit entities seeking to start or expand a business. Such requests may be referred to state or local agencies, or to non-profit economic development organizations serving the project area.

VI. Evaluation and Selection Process

To apply for an award under this notice, an eligible recipient must submit a pre-application proposal to the appropriate Economic Development Representative for the area or regional office. Each pre-application proposal is circulated by a project officer to the appropriate regional office staff for review, comments, and recommendations. When the necessary input and information are obtained, the pre-application proposal is considered by the regional office Investment Review Committee (IRC) made up of regional office staff. The IRC discusses the proposal and all pertinent documentation and evaluates it using the general evaluation criteria set forth at 13 CFR 304.1 and 304.2 as further defined by the Supplementary Evaluation Criteria set forth in this notice below, and the program specific criteria provided under 13 CFR 305.2 for Public Works, 13 CFR 306.2 for Planning Assistance, 13 CFR 307.2 for Technical Assistance, 13 CFR 307.6 for University Centers, 13 CFR 307.10 for National Technical Assistance, Training, Research, and Evaluation, and 13 CFR 308.2 and 308.4 for Economic Adjustment. In addition, each proposal is evaluated for consistency with the Funding Priorities set forth below. After completing its evaluation, the IRC recommends whether or not an application should be invited, documenting its recommendation in the meeting minutes and/or in the Investment Proposal Summary and Evaluation Form. The IRC action is reviewed at headquarters for quality assurance. After receiving quality control clearance, the Selecting Official (depending on the program, either the Regional Director or the Assistant Secretary) selects the applications to be invited. In the case of a continuation grant, no pre-application proposal is required. Proposals received after the date of this notice will be processed in accordance with the requirements set forth herein until the next annual NOFA is published.

Supplemental Evaluation Criteria

EDA will invest in applicants who are entrepreneurial in spirit and in action. Potential investments will be analyzed using the following seven supplemental evaluation criteria of approximate equal weight, which further define the criteria provided at 13 CFR 304.2:

1. Extent that proposed investments are market-based.

2. Extent that proposed investments are pro-active in nature and scope.

3. Extent that proposed investments look beyond the immediate economic horizon, anticipate economic changes, and diversify the local and regional economy.

4. Likelihood that proposed investments maximize the attraction of private sector investment and would not otherwise come to fruition absent EDA's investment.

5. Likelihood that proposed investments have a high probability of success.

6. Likelihood that proposed investments result in an environment where high skill, high wage jobs are created.

7. Likelihood that proposed investments maximize Return on Taxpayer Investment.

Funding Priorities

The Selecting Official considers the evaluations provided by the IRC and the degree to which one or more of the following funding priorities are included (or packaged together) in making his/her decisions as to which preapplication proposals should be invited. Highly rated pre-application proposals may or may not be invited to submit full applications based upon the following Funding Priorities:

A. Proposals that enhance regional competitiveness and support long-term development of the regional economy; for example:

1. Upgrade core business infrastructure

a. Transportation infrastructure

b. Communications infrastructure

c. Specialized training program infrastructure

2. Reflect and implement a regional strategy that involves all stakeholders

a. Support regional benchmarking initiatives;

b. Encourage a common vision and collaboration among firms, universities, and training centers to implement a regional strategy;

c. Reflect strong leadership committed to regional economic development; and

d. Encourage a formal organization structure and process for working on economic issues and maintaining consensus.

3. Encourage cluster development

a. Establish research and industrial parks that encourage innovation-based competition; and

b. Implement cluster-focused and innovation-focused business development efforts.

B. Proposals to help communities plan and implement economic adjustment strategies in response to sudden and severe economic dislocations (e.g., major lay-offs and/or plant closures, trade impacts, defense restructuring, or disasters).

C. Proposals that support technology-led economic development; for example, proposals that:

1. Reflect the important role of research and development capacity of universities in regional economic development; and

2. Create and support technology transfers.

D. Proposals that advance community and faith-based social entrepreneurship in redevelopment strategies for areas of chronic economic distress.

VII. Process for Invited Applications and Awards

If the Selecting Official declines to invite a full application, he/she provides written notice to the applicant. If an application has been invited by the Selecting Official, it is reviewed by EDA program officials to determine whether it contains any deficiencies under EDA regulations at 13 CFR chapter III and the requirements of this notice. If deficiencies are noted, the applicant is provided a written request to amend the application to resolve any deficiencies. If deficiencies are not resolved 30 days after receipt of the written notice, the application may be rejected. If the full application is accepted, the recipient and EDR are notified and it is forwarded for final reviews and processing in accordance with EDA and DOC procedures.

VIII. Program: Public Works and Economic Development Facilities Assistance—(Pub. L. 89-136, as amended by Pub. L. 105-393, 42 U.S.C. 3141)

(Catalog of Federal Domestic Assistance: 11.300 Economic Development-Grants for Public Works and Economic Development Facilities)

Funds in the amount of $250,000,000 have been appropriated for this program. The average funding level for an investment in FY 2001 was $1,007,300. This amount is not intended to restrict the size of future awards.

EDA will provide Public Works investments to support the construction or rehabilitation of essential public infrastructure and development facilities necessary to generate private sector jobs and investment, including investments that support technology-led development, redevelopment of brownfield sites, and eco-industrial development.

IX. Program: Planning—Planning Assistance for Economic Development Districts, Indian Tribes, States, and Other Planning Organizations—(Pub. L. 89-136, as amended by Pub. L. 105-393, 42 U.S.C. 3143)

(Catalog of Federal Domestic Assistance: 11.302 Economic Development—Support for Planning Organizations)

Funds in the amount of $24,000,000 have been appropriated for the Planning Program. In FY 2001, the average Economic Development District planning investment was $55,500; the average Indian planning investment was $46,000; and the average state and other planning organization investment was $68,800. These amounts are not intended to restrict the size of future awards. EDA expects the majority of planning funds will be used for support to existing Economic Development District and Indian Tribe grantees. Continuation grants are not competed. Any new planning grants shall be solicited and evaluated in compliance with this notice.

X. Program: Technical Assistance-Local Technical Assistance; National Technical Assistance; and University Centers—(Pub. L. 89-136, as amended by Pub. L. 105-393, 42 U.S.C. 3147)

(Catalog of Federal Domestic Assistance: 11.303 Economic Development-Technical Assistance)

Funds in the amount of $9,100,000 have been appropriated for the Technical Assistance programs of which approximately $1,500,000 is available for the Local Technical Assistance program; $1,101,000 for the National Technical Assistance program; and $6,499,000 for the University Center program. The average funding level in FY 2001 for Local Technical Assistance investments was $31,000; for National Technical Assistance investments, $108,000; and for University Center investments, the typical range was $75,000 to $110,000. These amounts are not intended to restrict the size of future awards.

EDA expects that most University Center funds will be used for support to existing University Centers. Continuation grants are not competed. Any new University Centers shall be evaluated and selected in compliance with this notice.

A separate Federal Register Notice will set forth the specific funding priorities, application process, and time frames for certain National Technical Assistance projects.

XI. Program: Economic Adjustment Assistance—(Pub. L. 89-136, as amended by Pub. L. 105-393, 42 U.S.C. 3149)

(Catalog of Federal Domestic Assistance: 11.307 Economic Adjustment Assistance)

Funds in the amount of $40,900,000 have been appropriated for funding under the Economic Adjustment Assistance program. Of this amount, $13,500,000 is available for economic adjustment projects located in regions impacted by coal industry downsizing and timber industry issues and $3,400,000 is available to respond to regionally significant economic transitions involving actual or threatened sudden and severe job dislocation.

The $3,400,000 will be used to: (1) address the immediate needs of businesses and communities presently undergoing transition due to a sudden and severe job loss; and (2) demonstrate new and proactive approaches for economic competitiveness and innovative capacity for threatened regions and communities.

The average funding level for an Economic Adjustment investment in FY 2001 was $281,000. This amount is not intended to restrict the size of future awards.

XII. Program: Research and Evaluation—(Pub. L. 89-136, as amended by Pub. L. 105-393, 42 U.S.C. 3147)

(Catalog of Federal Domestic Assistance: 11.312 Economic Development—Research and Evaluation Program)

Funds in the amount of $500,000 have been appropriated for this program. The average funding level for an investment in FY 2001 was $43,000. This amount is not intended to restrict the size of future awards.

A separate Federal Register Notice will set forth the application process, specific funding priorities, and time frames for certain research and evaluation investments. For further information, contact: John J. McNamee, Director, Research and National Technical Assistance Division, Economic Development Administration, Room 7019, U.S. Department of Commerce, Washington, DC 20230, Telephone: (202) 482-2309.

XIII. Program: Trade Adjustment Assistance—Title II Chapters 3 and 5 of the Trade Act of 1974, as amended by Pub. L. 93-618, 98-120, 98-369, 99-272, 99-514, 100-418, 103-66, 105-277; 19 U.S.C. 2341-2391)

(Catalog of Federal Domestic Assistance: 11.313 Economic Development—Trade Adjustment Assistance)

Funds in the amount of $10,500,000 have been appropriated for this program. EDA expects these funds will be used to support the existing network of Trade Adjustment Assistance Centers (TAACs). The average funding level for a TAAC in FY 2001 was $875,000. This amount is not intended to restrict the size of future awards. Continuation grants will not be competed. No new TAACs are expected this fiscal year. For further information on this program contact: Anthony J. Meyer, Coordinator, Trade Adjustment and Technical Assistance, Planning and Development Assistance Division, Economic Development Administration, Room 7317, U.S. Department of Commerce, Washington, DC 20230, Telephone: (202) 482-2127.

XIV. Other Information and Requirements

EDA regulations at 13 CFR chapter III are available on the EDA Web site www.doc.gov/eda. The Department of Commerce Pre-Award Notification Requirements for Grants and Cooperative Agreements contained in the Federal Register notice of October 1, 2001 (66 FR 49917) are applicable to this solicitation and can be found on EDA's Web site www.doc.gov/eda. Certain Departmental and other requirements are noted below:

A. Projects are expected to be completed in a timely manner consistent with the nature of the project. For Public Works and most Economic Adjustment implementation investments, the maximum period for which assistance will be made available is generally not more than five years from the date of award.

B. Notwithstanding any other provision of law, no person is required to respond to, nor shall a person be subject to a penalty for failure to comply with a collection of information subject to the requirements of the Paperwork Reduction Act (PRA) unless that collection of information displays a currently valid Office of Management and Budget (OMB) control number. This notice involves a collection of information requirements subject to the provisions of the PRA and has been approved by OMB under Control Number 0610-0094. The EDA preapplication (ED-900P) and application (ED-900A), which incorporates the SF-424, are the forms in the EDA application kit, approved under the aforementioned OMB control number.

C. The implementing regulations of the National Environmental Policy Act (NEPA) require EDA to provide public notice of the availability of project specific environmental documents such as environmental impact statements, environmental assessments, findings of no significant impact, records of decision etc., to the affected public as specified in 40 CFR 1506.6(b).

Depending on the project location, environmental information concerning specific projects can be obtained from the Regional Environmental Officer (REO) in the appropriate EDA regional office listed in Part XVI.

D. If an application is selected for funding, EDA has no obligation to provide any additional future funding in connection with an award. Renewal of an award to increase funding or extend the period of performance is at the sole discretion of EDA.

E. EDA will notify unsuccessful applicants in writing and unsuccessful applications will be maintained in the regional office files for not more than three years from the date of receipt.

F. EDA is committed to a policy of non-discrimination in the administration of all its programs.

G. EDA applications proposed for funding are subject to the requirements of Executive Order 12372, “Intergovernmental Review of Federal Programs,” as referenced in EDA's regulations at 13 CFR chapter III.

H. This Notice has been determined to be “not significant” for purposes of Executive Order 12866.

I. It has been determined that this notice does not contain policies with Federalism implications as that term is defined in Executive Order 13132.

J. Because notice and comment are not required under 5 U.S.C. 553, or any other law, for this notice relating to public property, loans, grants benefits or contracts (5 U.S.C. 553(a)), a Regulatory Flexibility Analysis is not required and has not been prepared for this notice, 5 U.S.C. 601 et seq.

XV. Special Need Criteria

These criteria are published in accordance with 13 CFR 301.2 (h) and define what constitutes a special need sufficient to make an area eligible for Public Works and Economic Development Facilities assistance and Economic Adjustment assistance as described in Part III above. An area is eligible pursuant to “Special Need” (13 CFR 301.2 (b) (3)), if the area meets one of the criteria described below:

A. Closure or restructuring of industrial firms essential to area economies. An area has experienced either: (1) an actual closure or restructuring of a firm(s), within the past twelve months, resulting in sudden job losses and meeting the following dislocation criteria; or (2) a threat that results from a public announcement of an impending closure or restructuring of a firm(s), expected to occur within two years of application, and result in sudden job losses meeting the following dislocation criteria:

1. For areas over 100,000 population, the actual or threatened dislocation is 500 jobs, or 1 percent of the civilian labor force (CLF), whichever is less.

2. For areas up to 100,000 population, the actual or threatened dislocation is 200 jobs, or 1 percent of the CLF, whichever is less.

B. Substantial out-migration or population loss. Applicants seeking eligibility under this criterion will be asked to present appropriate and compelling economic and/or demographic data to demonstrate the special need.

C. Underemployment, that is, employment of workers at less than full time or at less skilled tasks than their training or abilities permit. Applicants seeking eligibility under this criterion will be asked to present appropriate and compelling economic and/or demographic data to demonstrate the special need.

D. Military base closures or realignments, defense contractor reductions-in-force, or Department of Energy defense-related funding reductions.

1. A military base closure refers to a military base that was closed or is scheduled for closure or realignment pursuant to a Base Realignment and Closure Act (BRAC) process or other Department of Defense (DoD) process. Unless further extended by the Assistant Secretary for Economic Development, the area is eligible from the date of Defense Department recommendation for closure until five years after the actual date of closing of the installation.

2. A defense contractor reduction-in-force refers to a defense contractor(s) experiencing defense contract cancellations or reductions resulting from official DoD announcements and having aggregate value of at least $10 million per year. Actual dislocations must have occurred within one year of application to EDA and threatened dislocations must be anticipated to occur within two years of application to EDA. Defense contracts that expire in the normal course of business will not be considered in meeting this criterion.

3. A Department of Energy defense-related funding reduction refers to a Department of Energy facility that has experienced or will experience a reduction of employment resulting from its defense mission change. The area is eligible from the date of the Department of Energy announcement of reductions until five years after the actual date of reduced operations at the installation.

E. Natural or other major disasters or emergencies, including terrorist's attacks. Unless further extended by the Assistant Secretary, an area that has received one of the following disaster declarations is eligible to apply for EDA assistance for a period of 18 months after the date of declaration.

1. A Presidential Disaster Declaration pursuant to the Robert T. Stafford Disaster Relief and Emergency Assistance Act, as amended (Pub. L. 93-288), 42 U.S.C. 5121 et.seq), or

2. A Federally-Declared Disaster pursuant to the Magnuson-Stevens Fishery Conservation and Management Act (Pub. L. 94-265) as amended by the Sustainable Fisheries Act (Pub. L. 104-297), or

3. A Federal Declaration pursuant to the Consolidated Farm and Rural Development Act, as amended (Pub. L. 92-419, 96-438, 97-35, 98-258, 99-198, 100-233, 100-387, and 101-624), or

4. A Federally Declared Disaster pursuant to the Small Business Act, as amended (Pub. L. 85-536).

F. Extraordinary depletion of natural resources. EDA presently recognizes the following conditions of extraordinary natural resource depletion:

1. Fisheries

2. Coal

3. Timber

Modifications to the above listing of conditions of extraordinary natural resource depletion, as they may occur, will be announced in subsequent public notices.

G. Communities undergoing transition of their economic base as a result of changing trade patterns. An area certified as eligible by the North American Development Bank (NADBank) Program or the Community Adjustment and Investment Program (CAIP).

H. Other special need. The area is experiencing other special and/or extraordinary economic adjustment needs as determined by the Assistant Secretary.

The applicant will be asked to present appropriate economic or demographic statistics to demonstrate a special need.

XVI. EDA Regional Offices and Economic Development Representatives

EDA regional offices and the Economic Development Representatives and the areas served are listed below:

| States covered
ATLANTA REGIONAL OFFICE
William J. Day, Jr., Regional Director
401 West Peachtree Street, N.W., Suite 1820
Atlanta, Georgia 30308-3510
Telephone: (404) 730-3002
Fax: (404) 730-3025
Internet Address: wday1@eda.doc.gov
Economic Development Representatives
Patterson, Gilbert, 401 West Peachtree Street, N.W., Suite 1820, Atlanta, GA 30308-3510; Telephone: (404) 730-3000; Internet Address: gpatterson@eda.doc.gov | Mississippi.
Trader, Philip, 401 West Peachtree Street, N.W., Suite 1820, Atlanta, GA 30308-3510; Telephone: (404) 730-3017; Internet Address: ptrader@eda.doc.gov | Georgia.
Hunter, Bobby D., 771 Corporate Drive, Suite 200, Lexington, KY 40503-5477; Telephone: (859) 224-7426; Internet Address: bhunter@eda.doc.gov | Kentucky, North Carolina, (Western).
Dixon, Patricia M., U.S. Department of Commerce-EDA, P.O. Box 1707 Lugoff, SC 29078; Telephone: (803) 408-2513; Internet Address: pdixon@eda.doc.gov | South Carolina, North Carolina, (Eastern).
Dennis, Bobby, 401 West Peachtree Street, N.W., Suite 1820, Atlanta; GA 30308-3510; Telephone: (404) 730-3020; Internet Address: bdennis@eda.doc.gov | Alabama.
Taylor, Willie C., 401 West Peachtree Street, N.W., Suite 1820, Atlanta, GA 30308-3510; Telephone: (404) 730-3032; Internet Address: wtaylor5@eda.doc.gov | Florida
Reed, Tonia, 401 West Peachtree Street, N.W., Suite 1820, Atlanta, Georgia 30308-3510; Telephone: (404) 730-3026; Internet Address: treed@eda.doc.gov | Tennessee.
AUSTIN REGIONAL OFFICE
Pedro R. Garza, Regional Director
327 Congress Avenue, Suite 200
Austin, Texas 78701-4037
Telephone: (512) 381-8144
Fax: (512) 381-8177
Internet Address: pgarza@eda.doc.gov
Area Directors
Ayala, Jorge D., Austin Regional Office, 327 Congress Avenue, Suite 200, Austin, TX 78701-4037; Telephone: (512) 381-8150; Internet Address: jayala@eda.doc.gov | Arkansas, New Mexico, Oklahoma, Texas (North).
Frerking, Sharon T., Austin Regional Office, 327 Congress Avenue, Suite 200, Austin, Texas 78701-4037; Telephone: (512) 381-8176; Internet Address: sfrerking@eda.doc.gov | Louisiana, Texas (South).
Economic Development Representatives
Spearman, Sam, 700 West Capital, Room 2509, Little Rock, AR 72201; Telephone: (501) 324-5637; Internet Address: sspearma@eda.doc.gov | Arkansas, New Mexico, Oklahoma, Texas (North).
Davidson-Ehlers, Pamela, 501 Magazine Street, Room 1025, New Orleans, LA 70130; Telephone: (504) 589-4179; Internet Address: pdavidso@eda.doc.gov | Louisiana, Texas (South).
CHICAGO REGIONAL OFFICE
C. Robert Sawyer, Regional Director
111 North Canal Street, Suite 855
Chicago, IL 60606
Telephone: (312) 353-7706
Fax: (312) 353-8575
Internet Address: rsawyer@eda.doc.gov
Economic Development Representatives
Arnold, John B. III, 104 Federal Building, 515 West First Street, Duluth, MN 55802; Telephone: (888) 865-5719 (Illinois), (218) 720-5326 (Minnesota); Internet Address: jarnold1@eda.doc.gov | Illinois, Minnesota.
Hickey, Robert F., Federal Building, Room 740, 200 North High Street, Columbus, Ohio 43215; Telephone: (800) 686-2603 (Indiana), (614) 469-7314 (Ohio); Internet Address: rhickey@eda.doc.gov | Ohio, Indiana.
Peck, John E., P.O. Box 517, Acme, Michigan 49610-0517; Telephone: (231) 938-1712; Internet Address: jpeck@eda.doc.gov | Michigan, Wisconsin.
DENVER REGIONAL OFFICE
Anthony J. Preite, Regional Director
1244 Speer Boulevard, Room 670
Denver, Colorado 80204
Telephone: (303) 844-4715
Fax: (303) 844-3968
Internet Address: apreite@eda.doc.gov
Economic Development Representatives
Zender, John P., 1244 Speer Boulevard, Room 632, Denver, CO 80204; Telephone: (303) 844-4902; Internet Address: jzender@eda.doc.gov |  | Colorado, Utah.
Cecil, Robert, Federal Building, Room 823, 2l0 Walnut Street, Des Moines, IA 50309; Telephone: (515) 284-4746; Internet Address: bcecil@eda.doc.gov | Iowa, Nebraska.
Hildebrandt, Paul, Federal Building, Room B-2, 608 East Cherry Street, Columbia, MO 65201 Telephone: (573) 442-8084 Internet Address: phildebrandt@eda.doc.gov | Missouri, Kansas.
Rogers, John C., P.O. Box 578, Helena, MT 59624; Telephone: (406) 449-5380; Internet Address: jrogers6@eda.doc.gov | Montana, Wyoming.
Jungberg, Cip, Post Office/Courthouse, 102 4th Avenue, SE, Room 216, P.O. Box 190, Aberdeen, South Dakota 57401; Telephone: (605) 226-7315; Internet Address: cjungberg@eda.doc.gov | South Dakota, North Dakota.
PHILADELPHIA REGIONAL OFFICE,
Paul M. Raetsch, Regional Director,
Curtis Center,
Independence Square West,
Suite 140 South,
Philadelphia, PA 19106;
Telephone: (215) 597-4603,
Fax: (215) 597-6669;
Internet Address: PRaetsch@eda.doc.gov
Economic Development Representatives and Regional Office Contacts
Good, William A. Philadelphia Regional Office, The Curtis Center—Suite 140 South, Independence Square West, Philadelphia, PA 19106; Telephone: (215) 597-0405; Internet Address: wgood@eda.doc.gov | Delaware, District of Columbia.
Beach, Tyrone, Philadelphia Regional Office, The Curtis Center—Suite 140 South, Independence Square West, Philadelphia, PA 19106; Telephone: (215) 597-7883; Internet Address: tbeachl@eda.doc.gov | Maine, Rhode Island.
Potter, Rita V., 143 North Main Street, Suite 209, Concord, NH 03301-5089; Telephone: (603) 225-1624; Internet Address: rpotter@eda.doc.gov | New Hampshire, Massachusetts.
Hummel, Edward L., Philadelphia Regional Office, The Curtis Center—Suite 140 South, Independence Square West, Philadelphia, PA 19106; Telephone: (215) 597-6767; Internet Address: ehummel@eda.doc.gov | New Jersey, New York City/Long Island.
Marshall, Harold J., 620 Erie Boulevard West, Suite 104, Syracuse, NY 13204-2442; Telephone: (315) 448-0938; Internet Address: hmarshal@eda.doc.gov | New York, Vermont.
Pecone, Anthony M., 523 North Broad Street, West Hazleton, PA 18202-1107; Telephone: (570) 459-6861; Internet Address: apecone@eda.doc.gov | Pennsylvania, Connecticut.
Cruz, Ernesto L., IBM Building, Room 602, 654 Munoz Rivera Avenue, Hato Rey, PR 00918-1738; Telephone: (787) 766-5187; Internet Address: ecruz@eda.doc.gov | Puerto Rico, Virgin Islands.
Noyes, Neal E., Federal Building, Room 474, 400 North 8th Street, P.O. Box 10229, Richmond, VA 23240-1001; Telephone: (804) 771-2061; Internet Address: nnoyes@eda.doc.gov | Virginia, Maryland.
Davis, R. Byron, 405 Capital Street, Room 411, Charleston, WV 25301-1727, Telephone: (304) 347-5252; Internet Address: bdavis3@eda.doc.gov | West Virginia.
SEATTLE REGIONAL OFFICE
A. Leonard Smith, Regional Director
Jackson Federal Building, Room 1890
915 Second Avenue
Seattle, Washington 98174
Telephone: (206) 220-7660
Fax: (206) 220-7669
Internet Address: LSmith7@eda.doc.gov.
Economic Development Representatives
Richert, Bernhard E. Jr., 550 West 7th Avenue, Suite 1780, Anchorage, AK 99501-7594, Telephone: (907) 271-2272; Internet Address: brichert@eda.doc.gov | Alaska.
Sosson, Deena R,. 801 I Street, Suite 411, Sacramento, CA 95814, Telephone: (916) 498-5285; Internet Address: dsosson@eda.doc.gov | California (Central).
Church, Dianne V., 280 South First Street, #135-B, San Jose, CA 95113; Telephone: (408) 535-5550; Internet Address: dchurch@eda.doc.gov | California (Central Coastal).
Fujita, Gail S., Federal Building, Room 5180, 300 Ala Moana Boulevard, P.O. Box 50264, Honolulu, HI 96850; Telephone: (808) 541-3391; Internet Address: gfugita@eda.doc.gov | Hawaii, Guam, American Samoa, Marshall Islands, Micronesia, Northern Marianas, Republic of Palau.
Ames, Aldred, F., Borah Federal Building, Room 146, 304 North 8th Street, Boise, ID 83702; Telephone: (208) 334-1521 (Idaho), (888) 693-1370 (Nevada), Internet Address: aames@eda.doc.gov | Idaho, Nevada.
Berblinger, Anne, S., One World Trade Center, 121 S.W. Salmon Street, Suite 244, Portland, OR 97204; Telephone: (503) 326-3078; Internet Address: aberlin@eda.doc.gov | Orgon, California (Northern).
Marshall, Wilfred, 5777 West Century Boulevard, Suite 1675, Los Angeles, CA 90045; Telephone: (310) 348-5386; Internet Address: wmarshall@eda.doc.gov | California (Southern).
Kirry, Lloyd P., Seattle Regional Office, Jackson Federal Building, 915 Second Avenue, Room 1890, Seattle, WA 98174; Telephone: (206) 220-7682; Internet Address: lkirry@eda.doc.gov | Washington.
Macias, Jacob (Acting), Seattle Regional Office, Jackson Federal Building, 915 Second Avenue, Room 1890, Seattle, WA 98174; Telephone: (206) 220-7666; Internet Address: imacias@eda.doc.gov | Arizona.

For general information on EDA contact the appropriate Regional Office listed above or EDA's Office of Congressional Liaison, Program Research and Evaluation: Economic Development Administration, Room7814A, U.S. Department of Commerce, Washington, DC 20230, Telephone: (202) 482-2309, EDA Web site: www.doc.gov/eda.

Dated: February 25, 2002.
David A. Sampson,
Assistant Secretary for Economic Development.

[FR Doc. 02-4882 Filed 2-28-02; 8:45 am]

BILLING CODE 3510-24-P